SMALL BUSINESS ADMINISTRATION

Reporting and Recordkeeping Requirements Under OMB Review

AGENCY: Small Business Administration.

ACTION: 30-Day notice.

SUMMARY: The Small Business Administration (SBA) is publishing this notice to comply with requirements of the Paperwork Reduction Act (PRA) requires agencies to submit proposed reporting and recordkeeping requirements to OMB for review and approval, and to publish a notice in the Federal Register notifying the public that the agency has made such a submission. This notice also allows an additional 30 days for public comments.

DATES: Submit comments on or before July 25, 2019.

ADDRESSES: Comments should refer to the information collection by name and/or OMB Control Number and should be sent to: Agency Clearance Officer, Curtis Rich, Small Business Administration, 409 3rd Street SW, 5th Floor, Washington, DC 20416; and SBA Desk Officer, Office of Information and Regulatory Affairs, Office of Management and Budget, New Executive Office Building, Washington, DC 20503.

FOR FURTHER INFORMATION CONTACT: Curtis Rich, Agency Clearance Officer, (202) 205-7030 curtis.rich@sba.gov.

Copies: A copy of the Form OMB 83-1, supporting statement, and other documents submitted to OMB for review may be obtained from the Agency Clearance Officer.

SUPPLEMENTARY INFORMATION: Small Business Administration Surety Bond Guarantee Program was created to encourage surety companies to issue bonds for small contractors. The information collected on these forms from Small Business contractors or surety companies/agents is used to evaluate the eligibility of program application. One form is used by surety companies to request claims payments or report recoveries related to defaulted contractors.

Solicitation of Public Comments

Title: Surety Bond Guarantees Assistance.

Description of Respondents: Surety Companies.

Form Number: SBA Forms 990, 991, 994, 994B, 994F, 994H.

Estimated Annual Responses: 1,026.

Estimated Annual Hour Burden: 13,983.

Curtis Rich,
Management Analyst.

[FR Doc. 2019-13491 Filed 6-24-19; 8:45 am]

BILLING CODE 8025-01-P